DEPARTMENT OF HEALTH AND HUMAN SERVICES

Centers for Disease Control and Prevention

Disease, Disability, and Injury Prevention and Control Special Emphasis Panel (SEP): Factors Associated With the Uptake of Clinical Standards, Program Announcement Number 04089, and Increasing Influenza Vaccination of Long Term Care Facility Staff, Program Announcement Number 04090

In accordance with section 10(a)(2) of the Federal Advisory Committee Act (Pub. L. 92-463), the Centers for Disease Control and Prevention (CDC) announces the following meeting:

Name: Disease, Disability, and Injury Prevention and Control Special Emphasis Panel (SEP): Factors Associated with the Uptake of Clinical Standards, Program Announcement Number 04089, and Increasing Influenza Vaccination of Long Term Care Facility Staff, Program Announcement Number 04090.

Times and Dates: 6 p.m.-7 p.m., June 27, 2004 (Open). 7 p.m.-9 p.m., June 27, 2004 (Closed). 8 a.m.-5 p.m., June 28, 2004 (Closed).

Place: Renaissance Hotels and Resorts, One Hartsfield Centre Parkway, Atlanta, GA 30354, Telephone (404) 209-9999.

Status: Portions of the meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to Factors Associated with the Uptake of Clinical Standards, Program Announcement Number 04089, and Increasing Influenza Vaccination of Long Term Care Facility Staff, Program Announcement Number 04090.

Contact Person for More Information: Beth Gardner, National Immunization Program, Centers for Disease Control, 1600 Clifton Road, NE MS-E05, Atlanta, GA 30333, Telephone (404) 639-6101.

The Director, Management Analysis and Services Office, has been delegated the authority to sign Federal Register notices pertaining to announcements of meetings and other committee management activities, for both CDC and the Agency for Toxic Substances and Disease Registry.

Dated: May 24, 2004.
Joseph E. Satter,
Acting Director, Management Analysis and Services Office, Centers for Disease Control and Prevention (CDC).

[FR Doc. 04-12229 Filed 5-28-04; 8:45 am]

BILLING CODE 4163-18-P